DEPARTMENT OF THE INTERIOR

National Park Service

[NPS-WASO-NRNHL-DTS#-37439; PPWOCRADI0, PCU00RP14.R50000]

National Register of Historic Places; Notification of Pending Nominations and Related Actions

AGENCY: National Park Service, Interior.

ACTION: Notice.

SUMMARY: The National Park Service is soliciting electronic comments on the significance of properties nominated before February 10, 2024, for listing or related actions in the National Register of Historic Places.

DATES: Comments should be submitted electronically by March 8, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 10, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

CALIFORNIA

Los Angeles County

Brossart, John F. and Julia House, 512 S Ivy Avenue, Monrovia, SG100010097

Blair, Luther and Adah, House, 508 S Ivy Avenue, Monrovia, SG100010098

Los Feliz Boulevard Courtyard Apartments Historic District, parts of both sides of W Los Feliz Blvd., from Vermont to Hillhurst Aves, Los Angeles, SG100010099

Winona Boulevard Mid-Century Modern Historic District, both sides Winona Boulevard, Franklin Avenue to Hollywood Boulevard, Los Angeles, SG100010100

Mariposa Street Bridge roughly 10-ft. s of junction of S Mariposa St. and W Valley Heart Dr., Burbank, SG100010110

Marin County

The Last Resort Historic District, 230 Cintura Avenue and 2 Alta Avenue, Lagunitas, SG100010109

Riverside County

Bel Vista House at 1150 N Calle Rolph, 1150 N Calle Rolph, Palm Springs, SG100010094

Sacramento County

Sacramento Shops Historic District, 111 I Street, Sacramento, SG100010111

San Diego County

Talmadge Park Estates Historic District, Roughly bounded by 44th and 49th Streets; Norma, Constance and Natalie Drives; Adams and Monroe Avenues, San Diego, SG100010106

COLORADO

Delta County

Delta Municipal Light & Power Plant, 1133 Main St., Delta, SG100010079

Denver County

John and Nettie Kirtley House, 4524 Vrain Street, Denver, SG100010080

Montrose County

Knights of Pythias (KP) Building, 33 South Cascade Avenue, Montrose, SG100010081

CONNECTICUT

Middlesex County

Caleb Pratt House, 26 Gates Road, Essex, SG100010112

HAWAII

Honolulu County

Homelani House, 21 Homelani Place, Honolulu, SG100010091

Kauai County

Sakuichi and Chieko Matsumoto Residence, 2257 Kuai Road, Poipu, SG100010092

KENTUCKY

Jefferson County

Louisville Lead & Color Co. Paint Factory & Warehouse (West Louisville MRA), 1416-1426 Lytle St., Louisville, MP100010095

Great Atlantic & Pacific Tea Company Bakery & Warehouse, 901 S 15th Street, Louisville, SG100010096

MAINE

Cumberland County

Trefethen-Evergreen Improvement Association, 12 Trefethen Avenue, Peaks Island, Portland, SG100010086

Fort McKinley Torpedo Storehouse, 148 Coveside Drive, Portland, SG100010087

Penobscot County

Hasey's Maine Stages Building, 490 Broadway, Bangor, SG100010085

Sagadahoc County

Washington Park Historic District, Park and Winship Streets, Bath, SG100010084

Waldo County

Camp NEOFA, 213 Trotting Park Road, Montville, SG100010083

MONTANA

Cascade County

Baatz Block, 400-402 2nd Avenue South, Great Falls, SG100010108

NEW YORK

Washington County

Thomson District No. 10 School, 5158 NY Route 113, Greenwich, SG100010104

PENNSYLVANIA

Chester County

Hosanna Church and Cemetery, 531 University Road, Upper Oxford Township, SG100010101

Philadelphia County

Windsor Manufacturing Company, 3800 Jasper Street, Philadelphia, SG100010102

TENNESSEE

Haywood County

Esso Filling Station (Brownsville, Tennessee MPS), 41 N Washington Avenue, Brownsville, MP100010103

UTAH

Weber County

Sunnyfield Barn, 2103 North 5500 East, Eden, SG100010090

WISCONSIN

Trempealeau County

Hanson-Losinski Rockshelter Complex (Wisconsin Indian Rock Art Sites MPS), Address Restricted, Arcadia vicinity, MP100010089

A request for removal has been made for the following resource(s):

LOUISIANA

Beauregard Parish

Dry Creek High School Building, LA 113, Dry Creek, OT87002572

Caddo Parish

Antoine, C.C., House, 1941 Perrin St., Shreveport, OT99001013

De Soto Parish

Land's End Plantation, 7 mi. SE of Stonewall on Red Bluff Rd., Stonewall vicinity, OT72001453

Williams House, 407 Texas St., Mansfield, OT94000682

Franklin Parish

Baskin High School Building, LA 857, Baskin, OT81000295

Jefferson Parish

Kenner High School, Old, 1601 Rev. Richard Wilson, Kenner, OT08000014

St. Martin Parish

Fontenette-Bienvenu House (Louisiana's French Creole Architecture MPS), 201 N Main St., St. Martinville, OT97000876

Tangipahoa Parish

Green Shutters, Franklin St., Tangipahoa, OT82002797

MAINE

Androscoggin County

Gilead Railroad Station, Former Off NE end of Twin Rd., Auburn vicinity, OT92000272

Additional documentation has been received for the following resource(s):

NEW MEXICO

Otero County

La Luz Pottery Factory (Additional Documentation), 2 mi. (3.2 km) E of La Luz, La Luz vicinity, AD79001544

Authority: Section 60.13 of 36 CFR part 60.

Sherry A. Frear,
Chief, National Register of Historic Places/National Historic Landmarks Program.

[FR Doc. 2024-03541 Filed 2-21-24; 8:45 am]

BILLING CODE 4312-52-P